NATIONAL CAPITAL PLANNING COMMISSION

1 CFR Part 601

National Environmental Policy Act Regulations; Correction

AGENCY: National Capital Planning Commission.

ACTION: Final rule; correction.

SUMMARY: The National Capital Planning Commission (NCPC or Commission) is correcting a final rule that appeared in the Federal Register on September 29, 2017. The document issued New National Environmental Policy Act Regulations.

DATES: Effective October 30, 2017.

FOR FURTHER INFORMATION CONTACT: Anne R. Schuyler, General Counsel and Chief FOIA Officer, 202-482-7223, anne.schuyler@ncpc.gov.

SUPPLEMENTARY INFORMATION: In FR Doc. 2017-20614 appearing on page 45421 in the Federal Register on Friday, September 29, 2017, the following corrections are made:

PART 601—AUTHORITY [CORRECTED]

1. On page 45424, in the third column, below the table of contents for part 601, the authority citation is corrected to read: “Authority: 42 U.S.C. 4371; 40 CFR 1507.3.”

Dated: October 16, 2017.
Anne R. Schuyler,
General Counsel.

[FR Doc. 2017-22696 Filed 10-18-17; 8:45 am]

BILLING CODE 7520-01-P